DEPARTMENT OF COMMERCE

National Oceanic and Atmospheric Administration

[I.D. 062805A]

Marine Mammals; File No. 932-1489

AGENCY: National Marine Fisheries Service (NMFS), National Oceanic and Atmospheric Administration (NOAA), Commerce.

ACTION: Issuance of permit amendment.

SUMMARY: Notice is hereby given that the Marine Mammal Health and Stranding and Response Program (MMHSRP), National Marine Fisheries Service, 1315 East-West Highway, Silver Spring, MD, has been issued an amendment to Permit No. 932-1489 to continue stranding response activities for marine mammal species under NMFS jurisdiction.

DATES: Written, telefaxed, or e-mail comments must be received on or before August 5, 2005.

ADDRESSES: The amendment and related documents are available for review upon written request or by appointment: See SUPPLEMENTARY INFORMATION.

FOR FURTHER INFORMATION CONTACT: Ruth Johnson or Amy Sloan, (301)713-2289.

SUPPLEMENTARY INFORMATION: Permit No. 932-1489-00 was issued on July 2, 1999 (64 FR 37933). The requested amendment has been granted under the authority of the Marine Mammal Protection Act of 1972, as amended (16 U.S.C. 1361 et seq.), the Regulations Governing the Taking and Importing of Marine Mammals (MMPA; 50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The permit has been amended to extend the expiration date of the permit by two years; allow aerial surveys as a method for finding injured or entangled marine mammals or to survey the extent of a disease outbreak or die-off of marine mammals; allow harassment of marine mammals on land incidental to other MMHSRP activities authorized by the permit; and allow development and maintenance of marine mammal cell lines for diagnostic testing. The objectives of the permit amendment remain the same as the original permit: to implement the Marine Mammal Health and Stranding Response Program in accordance with Title IV of the MMPA (16 U.S.C. 1421 et seq.).

Pursuant to the provisions of Section 104(c)(3)(A) of the MMPA and implementing regulations at 50 CFR 216.33(e)(6), NMFS has issued this permit amendment without making the application available for a 30-day public comment period. Specifically, these provisions allow NMFS to waive the comment period in a situation where the health and life of an ESA-listed marine mammal is threatened and no reasonable alternative is available. Whereas the MMPA provides authorization for federal, state, and local government officials to take marine mammals in a humane manner if such taking is for the protection or welfare of the mammal, there are no comparable provisions under the ESA. Without this permit amendment, there would be no permit allowing for proper response to imperiled ESA-listed marine mammals. NMFS therefore determined that there was a compelling reason for waiving the 30-day public review and comment period on the application.

Issuance of this permit, as required by the ESA, was based on a finding that such permit: (1) Was applied for in good faith; (2) will not operate to the disadvantage of such endangered species; and (3) is consistent with the purposes and policies set forth in section 2 of the ESA.

Documents may be reviewed in the following locations:

Permits, Conservation and Education Division, Office of Protected Resources, NMFS, 1315 East-West Highway, Room 13705, Silver Spring, MD 20910; phone (301) 713-2289; fax (301) 427-2521;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018;

Pacific Islands Region, NMFS, 1601 Kapiolani Blvd., Rm 1110, Honolulu, HI 96814-4700; phone (808) 973-2935; fax (808) 973-2941;

Northeast Region, NMFS, One Blackburn Drive, Gloucester, MA 01930-2298; phone (978) 281-9200; fax (978) 281-9371; and

Southeast Region, NMFS, 263 13th Avenue South, St. Petersburg, FL 33702-2432; phone (727) 824-5312; fax (727) 824-5517.

Dated: June 29, 2005.
Patrick Opay,
Acting Chief, Permits, Conservation and Education Division, Office of Protected Resources, National Marine Fisheries Service.

[FR Doc. 05-13265 Filed 7-5-05; 8:45 am]

BILLING CODE 3510-22-S